NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW, Washington, DC 20594-0001, (202)314-6233.

SUPPLEMENTARY INFORMATION: Section 4314(c)(1) through (5) of Title 5, United States Code requires each agency to establish, in accordance with regulations prescribed by the Office of Personnel Management, one or more SES Performance Review Boards (PRB). The board reviews and evaluates the initial appraisal of a senior executive's performance by the supervisor and considers recommendations to the appointing authority regarding the performance of the senior executive.

The following have been designated as members of the 2022 Performance Review Board of the National Transportation Safety Board (NTSB):

Mr. Edward Benthall, Chief Financial Officer, Office of the Chief Financial Officer, National Transportation Safety Board, PRB Chair.

Ms. Barbara Czech, Deputy Director, Office of Research and Engineering, National Transportation Safety Board.

Dr. Robert Molloy, Director, Office of Highway Safety, National Transportation Safety Board.

Mr. Akbar Sultan, Director, Airspace Operations and Safety Program, National Aeronautics and Space Administration.

Ms. Gwendolyn Sykes, Chief Financial Officer, U.S. Secret Service, US Department of Homeland Security.

Mr. David Helson, Deputy Director, Office of Aviation Safety, National Transportation Safety Board (Member to review the evaluations of SES members serving on this PRB and alternate member).

Candi R. Bing,
Federal Register Liaison.

[FR Doc. 2022-23708 Filed 10-31-22; 8:45 am]

BILLING CODE P